DEPARTMENT OF VETERANS AFFAIRS

Privacy Act of 1974; Report of Matching Program

AGENCY: Department of Veterans Affairs.

ACTION: Notice.

SUMMARY: Notice is hereby given that the Department of Veterans Affairs (VA), recipient agency, intends to continue a recurring computer-matching program with the Social Security Administration (SSA), source agency.

The goal of this match is to compare income and employment status as reported to VA with wage records maintained by SSA. The proposed matching program will enable VA to ensure accurate reporting of income and employment status. VA will use this information to adjust VA benefit payments as prescribed by law.

DATES: VA will file a report of the subject matching agreement with the Senate Committee on Homeland Security and Governmental Affairs; the House Committee on Oversight and Government Reform; and the Office of Information and Regulatory Affairs, Office of Management and Budget (OMB). The matching program will be effective as indicated in this notice.

ADDRESSES: Written comments may be submitted through www.Regulations.gov, by mail or hand-delivery to Director, Regulations Management (00REG1), Department of Veterans Affairs, 810 Vermont Avenue, NW, Room 1068, Washington, DC 20420; fax to (202) 273-9026. Copies of comments received will be available for public inspection in the Office of Regulation Policy and Management, Room 1063B, between the hours of 8 a.m., and 4:30 p.m., Monday through Friday (except holidays). Please call (202) 273-9515 for an appointment. In addition, during the comment period, comments may be viewed online through the Federal Docket Management System (FDMS).

FOR FURTHER INFORMATION CONTACT: Pamela Liverman (212C), (202) 273-7280.

SUPPLEMENTARY INFORMATION: This information is required by title 5 U.S.C. subsection 552a(e)(12), the Privacy Act of 1974. SSA and VA have determined that a computer matching agreement is the most cost effective and efficient way to verify statements of beneficiaries. By comparing the information received through the matching program between SSA and VA on an annual basis, VA will be able to make timely and more accurate adjustments in the benefits payable.

A. Participating Agencies

This is a computer matching agreement between the Social Security Administration, source agency, and the Department of Veterans Affairs, recipient agency.

B. Purpose of the Match

The purpose of the matching agreement is to provide VA with data from income tax return information disclosed to SSA, to include its wage and self-employment income records. VA will use this information to adjust VA benefit payments as prescribed by law.

C. Authority for Conducting the Matching Program

The authority to conduct this match is 38 U.S.C. 5106, which requires Federal agencies to furnish VA with information necessary to determine eligibility for or amount of benefits. In addition, 26 U.S.C. 6103(l)(7) authorizes the disclosure of tax return information to VA.

D. Records To Be Matched

VA records involved in the match are the VA system of records, Compensation, Pension, Education and Rehabilitation Records—VA (58 VA 21/22), first published at 41 FR 9294 (March 3, 1976), and last amended at 70 FR 34186 (June 13, 2005), with other amendments as cited therein. VA's routine use for this match is routine use number 46.

The SSA records will come from the Earnings Recording and Self-Employment Income System, SSA/OSR, 60-0059. Routine use 26 permits SSA to disclose the pertinent information to VA.

E. Description of Computer Matching Program

VA plans to match records of veterans, surviving spouses and children who receive pension, and parents who receive dependency and indemnity compensation, with SSA income tax return information as it relates to earned income. VA will also match records of veterans receiving disability compensation at the 100 percent rate based on unemployability with SSA income tax return information as it relates to earned income.

VA will furnish an electronic file, which contains the social security number (SSN), name, VA claim number, and date of birth for each individual for whom tax return information is being requested. SSA will verify the SSNs furnished by using the Enumeration Verification System. SSA will provide a response for each individual identified by either indicating why the SSN could not be verified, or including earnings data for each record verified.

F. Inclusive Dates of the Matching Program

The match will start no sooner than 30 days after publication of this Notice in the Federal Register, or 40 days after copies of this Notice and the agreement of the parties is submitted to Congress and the Office of Management and Budget, whichever is later, and end not more than 18 months after the agreement is properly implemented by the parties. The involved agencies' Data Integrity Boards (DIB) may extend this match for 12 months provided the agencies certify to their DIBs, within three months of the ending date of the original match, that the matching program will be conducted without change and that the matching program has been conducted in compliance with the original matching program.

This computer-matching program is subject to public comment and review by Congress and the Office of Management and Budget. In accordance with title 5 U.S.C. subsection 552a(o)(2) and (r), copies of the agreement are being sent to both Houses of Congress and to the Office of Management and Budget.

This notice is provided in accordance with the provisions of the Privacy Act of 1974 as amended by Public Law 100-503.

Approved: April 19, 2007.
Gordon H. Mansfield,
Deputy Secretary of Veterans Affairs.

[FR Doc. E7-8858 Filed 5-8-07; 8:45 am]

BILLING CODE 8320-01-P